DEPARTMENT OF AGRICULTURE

Rural Housing Service

7 CFR Part 1944

RIN 0575-AC76

Housing Preservation Grants

AGENCY: Rural Housing Service, USDA.

ACTION: Direct final rule.

SUMMARY: The Rural Housing Service (RHS), hereafter referred to as U.S. Department of Agriculture Rural Development is amending its regulations for the Housing Preservation Grants Program to include faith-based and community organizations. Faith-based and community organizations receiving Housing Preservation Grants (HPG) Program funding for the purpose of repairing and rehabilitating housing will operate within the guidance of the 7 CFR 1944, subpart N, as well as, comply with the terms specified in the HPG grant agreement. The intended effect is to improve the delivery and operation of the HPG Program.

DATES: This rule is effective September 9, 2008, unless we receive written adverse comments or written notices of intent to submit adverse comments on or before August 25, 2008. If we receive such comments or notice, we will publish a timely document in the Federal Register withdrawing the rule.

ADDRESSES: You may submit adverse comments or notice of intent to submit adverse comments by any of the following methods:

• Federal eRulemaking Portal: http://www.regulations.gov. Follow the instructions for submitting comments.

• Mail: Submit written comments via the U.S. Postal Service to the Branch Chief, Regulations and Paperwork Management Branch, USDA Rural Development, STOP 0742, 1400 Independence Avenue, SW., Washington, DC 20250-0742.

• Hand Delivery/Courier: Submit written comments via Federal Express Mail or another mail courier service requiring a street address to the Branch Chief, Regulations and Paperwork Management Branch, USDA Rural Development, 300 7th Street, SW., Washington, DC 20024.

All written comments will be available for public inspection during regular work hours at the 300 7th Street, SW., address listed above.

FOR FURTHER INFORMATION CONTACT: Bonnie Edwards-Jackson, Senior Loan Specialist, Multi-Family Housing Processing Division, USDA Rural Development, USDA, STOP 0781, 1400 Independence Avenue, SW., Washington, DC 20250-0781, telephone: (202) 690-0759.

SUPPLEMENTARY INFORMATION:

Classification

This rule has been determined to be not significant and has not been reviewed by the Office of Management and Budget (OMB) under Executive Order 12866.

Civil Justice Reform

This rule has been reviewed under Executive Order 12988, Civil Justice Reform. In accordance with this order: (1) All state and local laws and regulations that are in conflict with this rule will be preempted; (2) no retroactive effect will be given to this rule; and (3) administrative proceedings in accordance with 7 CFR part 11, must be exhausted before bringing suit in court challenging action taken under this rule unless those regulations specifically allow bringing suit at an earlier time.

Executive Order 13132

The policies contained in this rule do not have any substantial direct effect on States, on the relationship between the national government and the States, or on the distribution of power and responsibilities among the various levels of government. Nor does this rule impose substantial direct compliance costs on State and local governments. Therefore, consultation with the States is not required.

Unfunded Mandates Reform Act

Title II of the Unfunded Mandates Reform Act of 1995 (UMRA) Public Law 104-4, establishes requirements for Federal agencies to assess the effects of their regulatory actions on State, local and tribal governments and the private sector. Under section 202 of the UMRA, 2 U.S.C. 1532, USDA Rural Development generally must prepare a written statement, including a cost-benefit analysis, for proposed and final rules with “Federal mandates” that may result in expenditures to State, local, or tribal governments, in the aggregate, or to the private sector, of $100 million or more in any one year. When such statement is needed for a rule, section 205 of the UMRA generally requires USDA Rural Development to identify and consider a reasonable number of regulatory alternatives and adopt the least costly, more cost effective or least burdensome alternative that achieves the objectives of the rule. This rule contains no Federal mandates (under the provisions of Title II of the UMRA) for State, local, and tribal Governments or the private sector. Therefore, this rule is not subject to the requirements of section 202 and 205 of the UMRA.

Programs Affected

The program affected by this rule is listed in the Catalog of Federal Domestic Assistance under Number 10.433, Rural Housing Preservation Grants.

Intergovernmental Consultation

The program is subject to Executive Order 12372, which requires intergovernmental consultation with state and local officials. Intergovernmental consultation has been conducted in accordance with RD Instruction 1940-J.

Environmental Impact Statement

This document has been reviewed in accordance with 7 CFR part 1940, subpart G, “Environmental Program.” It is the determination of RHS that this action does not constitute a major Federal action significantly affecting the quality of the human environment and in accordance with the National Environmental Policy Act of 1969, Public Law 91-190, an Environmental Impact Statement is not required.

Regulatory Flexibility Act

This rule has been reviewed with regard to the requirements of the Regulatory Flexibility Act (5 U.S.C. 601-612). The undersigned has determined and certified by signature of this document that this rule will not have a significant economic impact on a substantial number of small entities.

Paperwork Reduction Act of 1995

The information collection requirements contained in this regulation have been approved by OMB under the provisions of 44 U.S.C. chapter 35 and have been assigned OMB control number 0575-0172, in accordance with the Paperwork Reduction Act (PRA) of 1995. This rule does not impose any new or modified information collection requirements.

E-Government Act Compliance

The USDA Rural Development is committed to complying with the E-Government Act, to promote the use of the Internet and other information technologies to provide increased opportunities for citizen access to Government information and services, and for other purposes.

Background

The HPG program is a grant program, which provides qualified public agencies, private nonprofit organizations, and other eligible entities grant funds to assist very low- and low-income homeowners in repairing and rehabilitating their homes in rural areas. In addition, the HPG program assists rental property owners and cooperative housing complexes in repairing and rehabilitating their units if they agree to make such units available to low- and very low-income persons.

The regulation governing the HPG program is being amended to provide clarification for the public regarding the eligibility of faith-based and community organizations for the HPG Program.

The reason for the revision is the present regulation lacks language referencing faith-based and community organizations. Revising the regulation will further clarify the definition of “Organization” to include faith-based and community organizations. As a result, this will enable more faith-based and smaller community based organizations to apply for the HPG funding.

List of Subjects in 7 CFR Part 1944

Grant programs—Housing and community development, Home improvement, Loan programs, Housing and community development, Nonprofit organizations, Rural housing.

For the reasons set forth in the preamble, chapter XVIII, title 7, Code of Federal Regulations is amended as follows:

CHAPTER XVIII—RURAL HOUSING SERVICE, RURAL BUSINESS-COOPERATIVE SERVICE, RURAL UTILITIES SERVICE, AND FARM SERVICE AGENCY, DEPARTMENT OF AGRICULTURE

PART 1944—HOUSING

1. The authority citation for part 1944 continues to read as follows:

Authority: 5 U.S.C. 301; 42 U.S.C. 1480.

Subpart N—Housing Preservation Grants

2. Section 1944.656 is amended by revising the definition for “Organization” to read as follows.

§ 1944.656 Definitions.

* * * * *

Organization. An organization is defined as one of the following:

(1) A State, commonwealth, trust territory, other political subdivision, or public nonprofit corporation authorized to receive and administer HPG funds;

(2) An American Indian tribe, band, group, nation, including Alaskan Indians, Aleuts, Eskimos and any Alaskan Native Village, of the United States which is considered an eligible recipient under the Indian Self-Determination and Education Assistance Act (Pub. L. 93-638) or under the State and Local Fiscal Assistance Act of 1972 (Pub. L. 92-512);

(3) A private nonprofit organization, including faith-based and community organizations, that is owned and controlled by private persons or interests for purposes other than making gains or profits for the corporation, is legally precluded from distributing any gains or profits to its members, and is authorized to undertake housing development activities; or

(4) A consortium of units of government and/or private nonprofit organizations, including faith-based and community organizations, which is otherwise eligible to receive and administer HPG funds and which meets the following conditions:

(i) Be comprised of units of government and/or private nonprofit corporations that are close together, located in the same state, and serve areas eligible for USDA Rural Development assistance; and

(ii) Have executed an agreement among its members designating one participating unit of government or private nonprofit corporation as the applicant or designating a legal entity (such as a Council of Governments) to be the applicant.

* * * * *

§ 1944.679 [Amended]

3. Section 1944.679 is amended as follows:

A. By removing the number “2” and adding the words “at least one” in its place in paragraphs (b)(3)(i) and (ii), and

B. By removing the words “, including FmHA or its successor agency under Public Law 103-354's HPG program” in paragraph (b)(3)(i).

Appendix—Exhibit D to Subpart N of Part 1944 [Amended]

4. In the appendix, Exhibit D to Subpart N of Part 1944, paragraph 3(a) and (b) are amended by removing the word “two” and adding the words “at least one” in its place.

Dated: June 14, 2008.
Russell T. Davis,
Administrator, Rural Housing Service.

[FR Doc. E8-14456 Filed 6-25-08; 8:45 am]

BILLING CODE 3410-XV-P